DEPARTMENT OF DEFENSE

Office of the Secretary

Notification of Upcoming Meeting of the Defense Advisory Board for Employer Support of the Guard and Reserve (DAB-ESGR)

AGENCY: Department of Defense.

ACTION: Notice of open meeting.

SUMMARY: This notice announces a meeting of the DAB-ESGR. This meeting will focus on the response to a recommendation to create a single point communication system to notify employers of Guard and Reserve members. This meeting is open to the public.

DATES: November 19, 2008 (0830-1630 hours).

ADDRESSES: Crystal Gateway Marriott, 1700 Jefferson Davis Highway, Arlington VA 22202.

The public is asked to pre-register three weeks in advance of the meeting due to security and or seating limitations (see below information for pre-registration).

FOR FURTHER INFORMATION: Interested attendees may contact MAJ Elaine M. Gullotta at 703-696-1385 ext 540, or e-mail at elaine.gullotta@us.army.mil.

SUPPLEMENTARY INFORMATON:

Agenda

0830 Convene (Mr. James G. Rebholz, Chairman).

0835 Oath of Office (Mr. Frank Wilson).

0840 Minutes approval, Due Outs from last meeting and subcommittee update (Mr. James G. Rebholz, Chairman).

0850 Discussion, Response to Board Recommendation (Mr. James G. Rebholz, Chairman).

1030 Break.

1045 Honorable Thomas F. Hall, Assistant Secretary of Defense Reserve Affairs.

1200 Lunch.

1330 Public Comment.

1340 Discussion of Public Comment.

1400 Review and discussion of DAB Recruitment Efforts, way ahead (Mr. James G. Rebholz, Chairman).

1515 Break.

1545 Summary of Proceedings, Administrative Announcements, Subcommittee Due Outs.

1615 Awards, Photos.

1630 Adjourn.

(a) Background

The purpose of the Board is to provide independent advice and recommendations to the Secretary of Defense on matters that arise from the military obligation of members of the National Guard and Reserve members and the impact on their civilian employment.

(b) Availability of Materials for the Meeting

Please see the Federal Advisory Committee Act website for copies of any available materials, including draft agendas for the meeting and background information. (http://www.fido.gov/facadatabase/form_meetings.asp ).

(c) Procedures for Providing Public Comments

It is the policy of the DAB-ESGR to accept written public comments of any length, and to accommodate oral public comments whenever possible. To facilitate Board discussion at its meetings, the Board may not accept oral comments at all meetings, The Board Staff expect that public statements presented at Board meetings will be focused on the Board's statutory charter and any working group topics.

Oral Comments: Speaking times will be confirmed by Board staff on a “first-come/first-served basis. To accommodate as many speakers as possible, oral public comments must be no longer than 3 minutes. Because the Board members may ask questions, reserved times will be approximate. Interested parties must contact MAJ Elaine Gullotta in writing (via mail or e-mail) at least three weeks prior to the meeting.

Written Comments: Written comments should be received by the Board staff at least three weeks prior to the meeting date so that the comments may be made available to the Board for consideration prior to the meeting. Written comments should be supplied MAJ Elaine Gullotta in one of the following formats (Word, PDF) via mail or email at least two weeks prior to the meeting. Please Note: The Board operates under the provisions of the Federal Advisory Committee Act, as amended, all public presentations will be treated as public documents and will be made available for public inspection, up to and including being posted on the Federal Advisory Committee Web site.

Written comments may be sent to: Employer Support of the Guard and Reserve, 1555 Wilson Blvd, Suite 200, Arlington, VA 22209, Attention: MAJ Elaine Gullotta.

Dated: September 29, 2008.
Patricia L. Toppings,
OSD Federal Register Liaison Officer, Department of Defense.

[FR Doc. E8-23513 Filed 10-3-08; 8:45 am]

BILLING CODE 5001-06-P